DEPARTMENT OF COMMERCE

International Trade Administration

Public Forum on the European Union Metric Labeling Directive

AGENCY: International Trade Administration, Department of Commerce.

ACTION: Notice.

SUMMARY: The European Union has developed legislation that could mandate that U.S. businesses only use metrics when manufacturing for sale in the EU. This forum will provide U.S. industries an opportunity to express their concerns and ask relevant questions about the legislation.

DATES: The date of the meeting is October 12, 2006.

ADDRESSES: You may submit comments, identified by any of the following methods:

• E-mail: Ann_Ngo@ita.doc.gov.

• Fax: 202-482-2897.

• Mail: U.S. Department of Commerce, Room 3513, 14th and Constitution Avenue, NW., Washington, DC 20230.

• Hand Delivery/Courier: U.S. Department of Commerce, Room 3513, 14th and Constitution Avenue, NW., Washington, DC 20230.

FOR FURTHER INFORMATION CONTACT: Ann Ngo, Room 3527, 14th and Constitution Avenue, Washington, DC 20230, (202) 482-0010.

SUPPLEMENTARY INFORMATION: Beginning January 1, 2010, the European Union Council Directive of 20 December 1979 (80/181) on the approximation of the laws of the Member States relating to units of measurement and on the repeal of Directive 71/354/EEC, otherwise known as the Metric Directive, will allow the use of only metric units, and prohibit the use of any other measurements for most products sold in the European Union (EU). The Metric Directive will make the sole use of metric units obligatory in all aspects of life in the European Union, extending to areas such as product literature and advertising.

The Department of Commerce cordially invites all interested stakeholders to attend a public forum on the European Union's Metric Directive. The meeting is an opportunity for interested parties to provide information and input to the U.S. government on key areas of metric-only labeling. The stakeholders' input will be considered in the development of U.S. government views and actions. Key government officials working directly on this issue from various agencies will be in attendance to make presentations and discuss this important legislation and what stakeholders can do to move this issue to a successful conclusion.

Date: October 12, 2006.

Time: 2:30 p.m.-4:30 p.m.

Where: U.S. Department of Commerce, 14th and Constitution Avenue, NW., Washington, DC.

To gain access to the Department of Commerce, please RSVP by noon on Wednesday, October 11, 2006 to Ann Ngo at (202) 482-0010 or Ann_Ngo@ita.doc.gov.

The agenda will be provided at the meeting. Further information on the Metric Labeling directive can be found at: http://buyusainfo.net/docs_orig/x_3107558.doc and at http://www.nist.gov/metric.

Dated: October 1, 2006.
David DeFalco,
Director, Office of European Union, Department of Commerce.

[FR Doc. E6-16930 Filed 10-11-06; 8:45 am]

BILLING CODE 3510-DA-P